DEPARTMENT OF HOUSING AND URBAN DEVELOPMENT

[Docket No. FR-4491-N-11]

Notice of Intent To Prepare an Environmental Impact Statement for the Ridge Hill Village Center Development Project in the City of Yonkers, NY

AGENCY: Office of the Assistant Secretary for Community Planning and Development, HUD.

NOTICE: Notice of intent.

SUMMARY: In accordance with Section 102(2)(C) of the National Environmental Policy Act (NEPA) and implementing regulations of the Council on Environmental Quality (40 CFR parts 1500-1508), the City of Yonkers, New York, acting by Lee J. Ellman, AICP, its Planning Director, has identified a need to prepare an Environmental Impact Statement (EIS) and therefore issue this Notice of Intent in accordance with the provisions and requirements of 40 CFR 1501.7. The EIS will evaluate the impacts of the Proposed Action which consists of the development of 1 Ridge Hill (the Property), an approximately 81.4-acre parcel of real property located to the east of the New York State Thruway (I-87), west of Sprain Brook Parkway, and immediately south of Sprain Ridge Park, in the City of Yonkers.

The EIS will be prepared as a joint NEPA and New York State Environmental Quality Review Act (SEQRA) document intended to satisfy the requirements of both federal and state environmental statutes. In accordance with specific statutory authority and HUD's regulations under 24 CFR part 58 (Environmental Review Procedures for Entities Assuming HUD Environmental Responsibilities), HUD has authorized the City of Yonkers, New York to assume authority as the NEPA Responsible Entity. The City Council of the City of Yonkers is the SEQRA Lead Agency. Federal agencies with jurisdiction by law, special expertise, or other special interest should report their interests and indicate their willingness to participate in the EIS process as a Cooperating Agency. The EIS will cover the following areas: Land use and zoning; topography, soils and geology; vegetation, wildlife and wetlands; surface water resources; utilities; traffic and parking; noise; air quality; and visual/aesthetics/neighborhood character, and others.

FOR FURTHER INFORMATION CONTACT: For a copy of the Scoping Document contact: Lee J. Ellman, AICP, Planning Director, City of Yonkers, Department of Planning and Development, 87 Nepperhan Avenue, Yonkers, NY 10701-3874. Telephone: (914) 377-6558. E-mail: lee.ellman@cityofyonkers.com.

SUPPLEMENTARY INFORMATION: The Proposed Action consists of amendments to the Yonkers Zoning Ordinance, site plan approval from the Yonkers Planning Board, and related permits and approvals, to permit the development, construction, and use, of the Ridge Hill Village Center in the City of Yonkers, New York. The 81.4-acre Property is currently improved with a single office building of 240,000 square feet which is partially occupied for general office use; ten smaller buildings aggregating 120,000 square feet, which are unoccupied; and approximately 1,000 parking spaces. The Property is intended to be developed by FC Yonkers Associates, LLC, the project sponsor, as a planned, integrated, multi-use development to include retail, commercial, multi-family residential and hotel uses along with accessory parking.

The project is currently proposed to include approximately 1.3 million square feet of retail stores set along a traditional Main Street that will include shopping, dining and entertainment; a 350-room hotel and 40,000 square foot conference center; up to 800 residential units, a portion of which will be developed in accordance with the City of Yonkers Affordable Housing Ordinance (Article XV of the City of Yonkers Code), and approximately 150,000 square feet of office and research facilities. Approximately 5,000 parking spaces will be located appropriately throughout the site.

Vehicular access to the Property is proposed to be provided from Exit 6A of the New York State Thruway (I-87) and a new connector to the Sprain Brook Parkway to, or in the vicinity of, Tuckahoe Road. The project sponsor proposes improvements to Exit 6A, including reconstruction of the Bates Bridge, extension of the Thruway southbound service road from Stew Leonard Drive to the bridge, closure of the existing southbound Thruway entrance ramp at Stew Leonard Drive, and construction of a new southbound thruway entrance ramp at the Bates Bridge. All of these activities are included in the Proposed Action, and will be examined in the EIS.

A. Alternatives

The alternatives to be considered by the Lead Agency include a no-action alternative limited to the continued use of the existing, partially occupied office building on the Property; the development of the Property under existing zoning; alternative site access configurations; and alternative offsite highway configurations.

B. Need for the EIS

Insofar as the Proposed Action includes a residential component, it is subject to the Yonkers Affordable Housing Ordinance, Article XV of the Code of the City of Yonkers. The Decision of the United States District Court in D'Agnillo v. United States Department of Housing and Urban Development, 1999 WL 350870 (S.D.N.Y. 1999), requires environmental review, under NEPA, of all housing projects which are subject to the Affordable Housing Ordinance. The City of Yonkers has determined that the Proposed Action constitutes an action which has the potential to significantly affect the quality of the human environment and therefore requires the preparation of an EIS in accordance with NEPA.

C. Scoping

A public EIS scoping meeting will be held at 7 p.m. on June 10, 2003, at the Yonkers City Hall, Council Chamber, 40 South Broadway, Yonkers, NY 10701. In accordance with the provisions of 40 CFR 1500.2(c) the scoping meeting will be held jointly with the Yonkers City Council, which is acting as Lead Agency with respect to the Proposed Action under the New York State Environmental Quality Review Act (SEQRA), Article VIII of the New York Environmental Conservation Law and the Regulations promulgated pursuant thereto at 6 N.Y.C.R.R. Part 617. The public is invited to attend and identify the issues that should be addressed in the EIS. The public will have the opportunity to comment on the scope of the EIS orally and in writing. A written comment period during which additional written comments will be accepted by the Lead Agency will be extended through and including June 25, 2003. A scoping document that explains in greater detail the Proposed Action and alternatives identified at this time will be sent to known interested parties in advance of the public scoping meeting. The scoping document can also be viewed at http://www.cityofyonkers.com/.

Questions may be directed to the individual named in this notice under the heading FOR FURTHER INFORMATION CONTACT.

Dated: May 27 2003.
Roy A. Bernardi,
Assistant Secretary for Community Planning and Development.

[FR Doc. 03-13743 Filed 6-2-03; 8:45 am]

BILLING CODE 4210-29-P